DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-004.

Applicant: University of Kentucky, Chem/Physics Building, Room 177, Lexington, KY 40506.

Instrument: IR Image Furnace, Model SCII-MDH-11020.

Manufacturer: NEC Machinery Corporation, Japan.

Intended Use: The instrument is intended to be used for synthesis of single crystals of oxides such as ruthenatium and copper for fundamental materials research and to understand their magnetic and electronic properties.

Application accepted by Commissioner of Customs: January 24, 2003.

Docket Number: 03-005.

Applicant: Northwestern University, Searle 5-474, MC S205, 320 East Superior Street, Chicago, IL 60637.

Instrument: MSM System Series 300 Yeast Manipulator and Micro Zapper.

Manufacturer: Singer Instrument Company Limited, United Kingdom.

Intended Use: The instrument is intended to be used to study the biological function of yeast SWI/SNF chromatin remodeling complex. Experiments to be conducted include yeast mating, sporulation and zygote isolation.

Application accepted by Commissioner of Customs: January 30, 2003.

Docket Number: 03-006.

Applicant: MetroHealth Medical Center, 2500 MetroHealth Drive, Cleveland, OH 44109-1998.

Instrument: Electron Microscope, Model Tecnai G2 12 TWIN.

Manufacturer: FEI Company, The Netherlands.

Intended Use: The instrument is intended to be used for research which will include:

1. Structural alterations in pulmonary vasculature caused by embolized particles present in pharmaceutical tablets.

2. Structural-correlative studies of lung morphology in patients with acute lung injury, including adult respiratory distress syndrome.

3. Evaluation of ultrastructural abnormalities of human and animal neoplasms including pulmonary and extrapulmonary tumors.

4. Defining new ultrastructural abnormalities of respiratory cilia which may play a role in “immotile cilia syndrome” and the development of bronchiectasis.

5. Response of the human lung to mineral dusts.

6. Defining gene function in disease pathogenesis.

7. Determining which neurotransmitter peptides are localized in DiO-labelled synaptic terminals of the aortic depressor nerve.

Application accepted by Commissioner of Customs: February 4, 2003.

Gerald A. Zerdy,
Program Manager, Statutory Import Programs Staff.

[FR Doc. 03-4134 Filed 2-19-03; 8:45 am]

BILLING CODE 3510-DS-P